DEPARTMENT OF TRANSPORTATION

Federal Aviation Administration

29th Meeting: RTCA Special Committee 206, Aeronautical Information and Meteorological Data Link Services

AGENCY: Federal Aviation Administration (FAA), U.S. Department of Transportation (DOT).

ACTION: Notice of meeting RTCA Special Committee 206, Aeronautical Information and Meteorological Data Link Services.

SUMMARY: The FAA is issuing this notice to advise the public of the twenty-ninth meeting of RTCA Special Committee 206, Aeronautical Information and Meteorological Data Link Services.

DATES: The meeting will be held April 23-27, 2012, from 9 a.m.—5 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 206. The agenda will include the following:

April 23, 2012—Opening Plenary

• Chairmen's remarks and host's comments.

• Introductions.

• Approval of previous meeting minutes.

• Review and approve meeting agenda.

• SAA-to-SWIM-to-Flightdeck Connectivity Presentation.

• Notional MET Downlink to State Data Sources Presentation.

• SC-206 Related Work in SESAR—Progress Status.

• Discuss previously proposed TOR changes and DO-252 Revision.

○ Discuss TOR changes for the June PMC meeting.

• PMC decision on OSED document.

• ConUse FRAC resolution.

April 24, 2012

• ConUse FRAC resolution.

April 25, 2012

• ConUse FRAC resolution.

• ConUse FRAC resolution or SG1, SG2, and SG3 meetings.

April 26, 2012

• SG1, SG2, and SG3 meetings.

• Note: If needed, ConUse FRAC resolution could roll over into Thursday, which will delay the start of SG meetings.

April 27, 2012—Closing Plenary

• Sub-Group 1 report.

• Sub-Group 2 report.

• Sub-Group 3 report.

• Discussion on setting up the MASPS Sub-Group (#4) and a preliminary roadmap.

• Action item review.

• Future meeting plans and dates.

• Decision to approve the ConUse document for release to the PMC.

• Agree upon TOR changes for June PMC meeting.

• Other business.

• Adjourn—1 p.m.

Attendance is open to the interested public but limited to space availability. With the approval of the chairman, members of the public may present oral statements at the meeting. Persons wishing to present statements or obtain information should contact the person listed in the “FOR FURTHER INFORMATION CONTACT” section. Members of the public may present a written statement to the committee at any time.

Issued in Washington, DC, on March 29, 2012.
John Raper,
Manager, Business Operations Branch, Federal Aviation Administration.

[FR Doc. 2012-8189 Filed 4-4-12; 8:45 am]

BILLING CODE 4910-13-P